DEPARTMENT OF HOUSING AND URBAN DEVELOPMENT

[Docket No. FR-4673-N-01]

Lead Safe Housing: Notice of Extension of Transition Assistance Period to Certain Jurisdictions

AGENCY: Office of Healthy Homes and Lead Hazard Control, HUD.

ACTION: Notice.

SUMMARY: This notice advises the public of a direct notice that HUD issued on March 5, 2001, to jurisdictions which previously submitted a transition implementation plan to advise these jurisdictions of how they may obtain an additional time period to build capacity to comply with HUD's Lead Safe Housing Regulation.

DATE: Effective Date. March 5, 2001.

FOR FURTHER INFORMATION CONTACT: Further information on lead-based paint regulation transition assistance (including a sample transition implementation plan matrix), training courses, and related issues is available at www.hud.gov/offices/lead. A list of the phone numbers for EPA Regional Lead Coordinators is available at www.epa.gov/lead/leadoff1.htm or through the Lead Paint Compliance Assistance Center at the number below. (The 15 States and two territories that do not have a lead certification program as of March 8, 2001, are: AK, AZ, FL, GU, HI, ID, MT, NE, NV, NM, NY, ND, SC, SD, VI, WA, WY.) Questions may be directed to the Lead Paint Compliance Assistance Center toll-free at 1-866-HUD-1012. (Note: Some local telephone exchanges may have difficulty accessing this phone number. In such a case, you should contact your local telephone operator for toll-free access).

SUPPLEMENTARY INFORMATION: On March 5, 2001, HUD issued a direct notice to jurisdictions which previously submitted a transition implementation plan to advise these jurisdictions of how they may obtain an additional time period to build capacity to comply with HUD's Lead Safe Housing Regulation. For those jurisdictions requesting more time, the March 5, 2001 notice provides that an updated transition implementation plan must be submitted to HUD no later than April 10, 2001. An automatic extension of the existing transition assistance period from March 15, 2001 to April 10, 2001 is in effect to ensure that jurisdictions have enough time to update their Transition Implementation Plans. No submittal is needed to cover the time period from March 15, 2001 to April 10, 2001. HUD provides this additional time to promote coordination among state and local agencies. The March 5, 2001 notice advises that during this period, program participants must continue to comply with HUD's lead-based paint regulations that were effective before September 15, 2000. HUD will assume that a jurisdiction that does not submit an updated transition assistance plan has the capacity to comply with HUD's new lead-based paint regulation at 24 CFR part 35. HUD will issue a notice prior to August 10, 2001 to address any remaining capacity shortfalls.

Background

On September 15, 1999 (64 FR 50140), HUD published a new regulation amending 24 CFR part 35 to streamline, modernize and consolidate all lead-based paint requirements in federally-assisted housing and housing being sold by the federal government to ensure that children are adequately protected from lead poisoning. The regulation took effect one year later, on September 15, 2000, to enable those covered by the regulation to prepare for its implementation. On September 11, 2000 (just before the effective date), HUD published a policy to aid in the transition to the new regulation. That policy provided a 6-month transition period to those jurisdictions that submitted a Statement of Inadequate Capacity and a Transition Implementation Plan to HUD. The submissions documented the jurisdictions' need to build capacity to meet the rule's requirements. See HUD's September 11, 2000 notice at 65 FR 54858, for further details on HUD's lead-based paint transition assistance policy.

In response to state and local requests, HUD has funded a variety of training and is currently conducting over 200 training courses in 100 jurisdictions to build capacity in lead-safe work practices for workers performing rehabilitation or maintenance in Federally-assisted housing. In addition, many jurisdictions have conducted their own training to build capacity as needed.

Transition Assistance

HUD's current transition assistance period expired on March 15, 2001. Despite substantial progress since the regulation took effect on September 15, 2000, there may still remain some jurisdictions that lack capacity in one or more disciplines, in one or more programs. Therefore, HUD concluded that compliance is still not feasible for certain specified programs when jurisdictions provide an acceptable updated Transition Implementation Plan.

The updated Transition Implementation Plan must demonstrate good faith efforts to build capacity and include all of the following:

(1) A list of programs where compliance is now feasible.

(2) A list of disciplines (e.g., lead-safe maintenance worker, rehabilitation worker, risk assessor, sampling technician, abatement worker) where capacity is now adequate.

(3) A statement that capacity is not adequate to comply with the regulation, listing the applicable program and discipline.

(4) A date by which compliance is expected to be feasible that is not later than August 10, 2001.

(5) An updated Transition Implementation Plan matrix including the number of individuals currently available and needed for each discipline and program area.

(6) A short narrative description of activities undertaken to coordinate with the state lead paint certifying agency (or, in states without a lead certification program, with the applicable EPA Regional Lead Coordinator), and/or health departments, including a statement that the certifying agency was contacted for a list of certified persons (if such persons were needed).

(7) A short narrative description of how the jurisdiction will link trained individuals to housing programs.

(8) A short narrative description of activities undertaken to coordinate resources in nearby jurisdictions.

(9) A list of all training activities that have been or will be completed as of April 10, 2001, including the number of people trained in each discipline and their names.

(10) A list of training courses that are scheduled in the next several months, the entity offering the course and a contact name, address and phone number for the training provider.

(11) For jurisdictions with a HUD lead hazard control grant program starting before January 1, 2000, a statement signed by the administrator of the lead grant program describing why the program has not built adequate capacity.

(12) The name of a state or local agency and contact person that will be responsible for coordinating HUD-funded lead-based paint training within the jurisdiction.

The March 5, 2001 notice provides that the updated Transition Implementation Plan must be signed by the following:

For entitlement jurisdictions in cities, counties and tribes: The chief elected official of the jurisdiction, or both the head of the agency which submits the Consolidated Plan to HUD and the head of the local health department. In states that do not have an EPA authorized state program, the EPA regional office overseeing the lead certification program shall be sent a copy no later than the time of submission.

For non-entitlement areas of states: The Governor, or both the head of the agency administering the EPA-authorized state lead paint certification program and the head of the agency submitting the Consolidated Plan to HUD. In states that do not have an EPA authorized state program, the head of the state health department shall sign along with the head of the agency submitting the consolidated plan; the EPA regional office overseeing the lead certification program shall be sent a copy no later than the time of submission. If a public housing agency in a non-entitlement area does not know which agency to contact in the state government regarding the status of the extension request, they may obtain the information from the Lead Paint Compliance Assistance Center toll-free at 1-866-HUD-1012. The PHA may also obtain the name and telephone number of the state employee and office that served as the contact for the extension.

A submission will not be processed if it lacks any of the signatures and Transition Implementation Plan elements required above. The March 5, 2001 notice advised the jurisdictions that their updated Transition Implementation Plan must be postmarked no later than April 10, 2001 and must be sent to: Ms. Gail N. Ward, U.S. Department of Housing and Urban Development, Office of Healthy Homes and Lead Hazard Control, 451 Seventh St. SW., P-3206, Washington, DC 20410.

The March 5, 2001 notice advised that unless HUD received an updated Transition Implementation Plan with a postmark dated no later than April 10, 2001, HUD will conclude that the jurisdiction now has capacity to protect children in federally-assisted housing and that all programs will comply with the regulation. Additionally, the March 5, 2001 notice provided that if the updated Transition Implementation Plan includes all the elements listed in the March 5, 2001 notice the Department will conclude, after review, that compliance is not feasible for the applicable programs and/or disciplines for the time period designated in the plan, which should not extend beyond August 10, 2001. During this period, program participants must continue to comply with HUD's lead-based paint regulations that were effective before September 15, 2000.

Dated: March 20, 2001.
David E. Jacobs,
Director, Office of Healthy Homes and Lead Hazard Control.

[FR Doc. 01-8526 Filed 4-5-01; 8:45 am]

BILLING CODE 4210-01-P